DEPARTMENT OF ENERGY

Federal Energy Regulatory Commission

Combined Notice of Filings #1

Take notice that the Commission received the following electric corporate filings:

Docket Numbers: EC12-121-000.

Applicants: Direct Energy Services, LLC, Energetix, Inc., NYSEG Solutions, Inc.

Description: Joint Application for Authorization under Section 203 of the Federal Power Act of Direct Energy Services, LLC, et al.

Filed Date: 7/18/12.

Accession Number: 20120718-5104.

Comments Due: 5 p.m. ET 8/8/12.

Take notice that the Commission received the following exempt wholesale generator filings:

Docket Numbers: EG12-90-000.

Applicants: Russell City Energy Company, LLC.

Description: Notice of Self-Certification of Exempt Wholesale Generator Status.

Filed Date: 7/18/12.

Accession Number: 20120718-5109.

Comments Due: 5 p.m. ET 8/8/12.

Take notice that the Commission received the following electric rate filings:

Docket Numbers: ER12-1635-002.

Applicants: Wolverine Power Supply Cooperative, Inc.

Description: Oden IFA FERC Rate Schedule No. 9 to be effective 4/27/2012.

Filed Date: 7/16/12.

Accession Number: 20120716-5160.

Comments Due: 5 p.m. ET 8/6/12.

Docket Numbers: ER12-1946-001.

Applicants: Duke Energy Beckjord, LLC.

Description: Amendment to MBR Filing to be effective 10/1/2012.

Filed Date: 7/18/12.

Accession Number: 20120718-5077.

Comments Due: 5 p.m. ET 8/8/12.

Docket Numbers: ER12-1948-001.

Applicants: Duke Energy Conesville, LLC.

Description: Amendment to MBR Tariff Filing to be effective 10/1/2012.

Filed Date: 7/18/12.

Accession Number: 20120718-5066.

Comments Due: 5 p.m. ET 8/8/12.

Docket Numbers: ER12-1951-001.

Applicants: Duke Energy Dicks Creek, LLC.

Description: Amendment to MBR Tariff Filing to be effective 10/1/2012.

Filed Date: 7/18/12.

Accession Number: 20120718-5080.

Comments Due: 5 p.m. ET 8/8/12.

Docket Numbers: ER12-1954-001.

Applicants: Duke Energy Killen, LLC.

Description: Amendment to MBR Tariff Filing to be effective 10/2/2012.

Filed Date: 7/18/12.

Accession Number: 20120718-5094.

Comments Due: 5 p.m. ET 8/8/12.

Docket Numbers: ER12-1956-001.

Applicants: Duke Energy Miami Fort, LLC.

Description: Amendment to MBR Filing to be effective 10/1/2012.

Filed Date: 7/18/12.

Accession Number: 20120718-5082.

Comments Due: 5 p.m. ET 8/8/12.

Docket Numbers: ER12-1958-001.

Applicants: Duke Energy Piketon, LLC.

Description: Amendment to MBR Tariff Filing to be effective 10/1/2012.

Filed Date: 7/18/12.

Accession Number: 20120718-5083.

Comments Due: 5 p.m. ET 8/8/12.

Docket Numbers: ER12-1959-001.

Applicants: Duke Energy Stuart, LLC.

Description: Amendment to MBR Tariff Filing to be effective 10/1/2012.

Filed Date: 7/18/12.

Accession Number: 20120718-5084

Comments Due: 5 p.m. ET 8/8/12.

Docket Numbers: ER12-1961-001.

Applicants: Duke Energy Zimmer, LLC.

Description: Amendment to MBR Tariff Filing to be effective 10/1/2012.

Filed Date: 7/18/12.

Accession Number: 20120718-5090.

Comments Due: 5 p.m. ET 8/8/12.

Docket Numbers: ER12-2080-001.

Applicants: GenOn Power Midwest, LP.

Description: Revised Effective Date and Request to Defer Action to be effective 12/31/9998.

Filed Date: 7/18/12.

Accession Number: 20120718-5074.

Comments Due: 5 p.m. ET 8/8/12.

Docket Numbers: ER12-2145-001.

Applicants: EC&R O&M LLC.

Description: Amendment to Application for Market-Based Rate Authority to be effective 6/29/2012.

Filed Date: 7/18/12.

Accession Number: 20120718-5002.

Comments Due: 5 p.m. ET 8/1/12.

Docket Numbers: ER12-2257-000.

Applicants: Midwest Independent Transmission System Operator, Inc.

Description: SA 2017 Barton Windpower-ITC Midwest to be effective 7/19/2012.

Filed Date: 7/18/12.

Accession Number: 20120718-5035.

Comments Due: 5 p.m. ET 8/8/12.

Docket Numbers: ER12-2258-000.

Applicants: Midwest Independent Transmission System Operator, Inc.

Description: SA 2456 Emmet County-ITC Midwest GIA to be effective 7/19/2012.

Filed Date: 7/18/12.

Accession Number: 20120718-5039.

Comments Due: 5 p.m. ET 8/8/12.

Docket Numbers: ER12-2259-000.

Applicants: Midwest Independent Transmission System Operator, Inc.

Description: SA 1902 Harvest Windfarm LLC-ITC Transmission GIA to be effective 7/19/2012.

Filed Date: 7/18/12.

Accession Number: 20120718-5058.

Comments Due: 5 p.m. ET 8/8/12.

Docket Numbers: ER12-2260-000.

Applicants: New York Independent System Operator, Inc.

Description: NYISO Tariff Amendments to Permit Recovery of Charges for ITC PARs to be effective 4/5/2012.

Filed Date: 7/18/12.

Accession Number: 20120718-5079.

Comments Due: 5 p.m. ET 8/8/12.

Docket Numbers: ER12-2261-000.

Applicants: Russell City Energy Company, LLC.

Description: Application for Market-Based Rate Authorization to be effective 7/19/2012.

Filed Date: 7/18/12.

Accession Number: 20120718-5100.

Comments Due: 5 p.m. ET 8/8/12.

Docket Numbers: ER12-2262-000.

Applicants: PJM Interconnection, L.L.C.

Description: Compliance Filing per Order dated 4/19/2012 in ER09-1063-004 to be effective 10/1/2012.

Filed Date: 7/18/12.

Accession Number: 20120718-5101.

Comments Due: 5 p.m. ET 8/8/12.

Docket Numbers: ER12-2263-000.

Applicants: Arizona Public Service Company.

Description: Amendment to Rate Schedule No. 217, Exhibit B to be effective 10/1/2012.

Filed Date: 7/19/12.

Accession Number: 20120719-5001.

Comments Due: 5 p.m. ET 8/9/12.

Docket Numbers: ER12-2264-000.

Applicants: Southwest Power Pool, Inc.

Description: Compliance Filing—ER12-1600—Exelon Market Participant Service Agreement to be effective 4/1/2012.

Filed Date: 7/17/12.

Accession Number: 20120717-5140.

Comments Due: 5 p.m. ET 8/7/12.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: July 19, 2012.
Nathaniel J. Davis, Sr.,
Deputy Secretary.

[FR Doc. 2012-18239 Filed 7-25-12; 8:45 am]

BILLING CODE 6717-01-P